DEPARTMENT OF AGRICULTURE

Submission for OMB Review; Comment Request

February 18, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Irradiation Phytosanitary Treatment for Fresh Fruits and Vegetables.

OMB Control Number: 0579-0155.

Summary of Collection: The Plant Protection Act (7 U.S.C. 7701-7772) authorizes the Secretary of Agriculture to regulate the importation of plants, plant products, and other articles to prevent the introduction of injurious plant pests and noxious weeds. Regulations in 7 CFR part 305 provide for the use of irradiation as a phytosanitary treatment for certain fruits and vegetables imported in the United States. The irradiation treatment provides protection against 11 species of fruit flies and mango seed weevil.

Need and Use of the Information: The Animal and Plant Health Inspection Service (APHIS) will collect information using a compliance agreement, 30-day notification, labeling requirements, dosimetry recordings, requests for dosimetry device approval, recordkeeping, requests for facility approval. Without the collection of this information, APHIS would have no practical way of determining that any given commodity had actually been irradiated.

Description of Respondents: Business or other for profit; individuals or households; farms.

Number of Respondents: 93.

Frequency of Responses: Recordkeeping; Reporting: On occasion.

Total Burden Hours: 416.

Animal and Plant Health Inspection Service

Title: Importation of Fruit from Thailand.

OMB Control Number: 0579-0308.

Summary of Collection: Under the Plant Protection Act (7 U.S.C. 7701 et seq.), the Secretary of Agriculture is authorized to carry out operations or measures to detect, eradicate, suppress, control., prevent, or retard the spread of plant pests new to the United States or not known to be widely distributed throughout the United States. The Animal and Plant Health Inspection Service (APHIS) amended the fruit and vegetables regulations to allow the importation into the United State of litchi, longan, mango, mangosteen, pineapple, and rambutan from Thailand. The fruit would have to be accompanied by a phytosanitary certificate with an additional declaration stating that the fruit had been tested with irradiation in Thailand and in the case of litchi, that the fruit had been inspected and found to be free of Peronophythora litchi, a fungal pest of litchi.

Need and Use of the Information: APHIS will use the information on the certificate to determine the pest condition of the shipment at the time of inspection in the foreign country. This information is used as a guide to the intensity of the inspection APHIS conduct when the shipment arrives. Without this information, all shipments would need to be inspected very thoroughly, thereby requiring considerably more time. This would slow the clearance of international shipments.

Description of Respondents: Federal Government (Foreign).

Number of Respondents: 10.

Frequency of Responses: Reporting: On occasion.

Total Burden Hours: 78.

Animal and Plant Health Inspection Service

Title: Importation of Mangoes from India.

OMB Control Number: 0579-0312.

Summary of Collection: Under the Plant Protection Act (7 U.S.C. 7701 et seq.), the Secretary of Agriculture is authorized to carry out operations or measures to detect, eradicate, suppress, control., prevent, or retard the spread of plant pests new to the United States or not known to be widely distributed throughout the United States. The Animal and Plant Health Inspection Service (APHIS) regulates the importation of fruits and vegetables into the continental United States from certain parts of the world. In accordance with these regulations, mangoes from India may be imported into the United States only under certain conditions to prevent the introduction of plant pests into the United States.

Need and Use of the Information: APHIS amended the fruits and vegetables regulations to allow the importation into the continental United States of mangoes from India under certain conditions. As a condition of entry, the mangoes have to undergo irradiation treatment and be accompanied by a phytosanitary certificate with additional declaration statements providing specific information about treatment and orchards in which they were grown. Additional information collected by APHIS includes a preclearance workplan, trust fund agreement, monitoring and certification of treatments, and recordkeeping. Failure to collect this information would greatly hinder APHIS' ability to ensure that mangoes from India are not carrying plant pests.

Description of Respondents: Business or other for-profit; Federal Government (Foreign).

Number of Respondents: 154.

Frequency of Responses: Recordkeeping; Reporting: On occasion.

Total Burden Hours: 2,685.

Ruth Brown,
Departmental Information Collection Clearance Officer.

[FR Doc. 2010-3698 Filed 2-23-10; 8:45 am]

BILLING CODE 3410-34-P